ENVIRONMENTAL PROTECTION AGENCY

[FRL-6891-2]

National Advisory Council for Environmental Policy and Technology; Public Meeting

AGENCY: Environmental Protection Agency (EPA).

ACTION: Notice of public meeting.

SUMMARY: Under the Federal Advisory Committee Act, P.L. 92463, EPA gives notice of a meeting of the National Advisory Council for Environmental Policy and Technology (NACEPT). NACEPT provides advice and recommendations to the Administrator of EPA on a broad range of environmental policy and management issues.

NACEPT consists of a representative cross-section of EPA's partners and principle constituents who provide advice and recommendations on policy issues and serve as a sounding board for new strategies that the Agency is developing.

The Administrator of EPA has asked NACEPT to address several policy issues associated with human resource planning, integration of key Agency planning processes, and the identification of emerging issues facing the Agency.

DATES: The NACEPT will hold a 2-day public meeting on Wednesday November 8, from 8:30 am to 4:30 pm and Thursday November 9, 2000 from 8:30 am to 3:45 pm.

ADDRESSES: The NACEPT 2-day public meeting will be held at the Radisson Hotel Old Town Alexandria, located at 901 North Fairfax Street, Alexandria, Virginia . Materials or written comments may be transmitted to the Council through Gwendolyn Whitt, Designated Federal Officer, NACEPT RCC, U.S. EPA, Office of Cooperative Environmental Management (1601A), 1200 Pennsylvania Avenue NW., Washington, DC 20460. There will also be an opportunity for the public to make comments directly to the Council during the first day of the meeting. Oral comments will be limited to a total time of five minutes. Requests to make oral comments must be submitted no later than November 3, 2000 to Gwendolyn Whitt, at the address above or faxed to (202)-501-0661. Those who have not reserved time in advance, may make comments during the public comment session as time allows.

FOR FURTHER INFORMATION CONTACT: Gwendolyn Whitt, Designated Federal Officer, NACEPT, at (202)-564-5982.

Dated: October 12, 2000.
Gordon Schisler,
Deputy Director, Office of Cooperative Environmental Management.

[FR Doc. 00-27401 Filed 10-24-00; 8:45 am]

BILLING CODE 6560-50-P